DEPARTMENT OF TRANSPORTATION

Federal Aviation Administration

14 CFR Part 71

[Docket No. FAA-2023-0599; Airspace Docket No. 22-ASO-11]

RIN 2120-AA66

Amendment and Revocation of Very High Frequency (VHF) Omnidirectional Range (VOR) Federal Airways in the Eastern United States

AGENCY: Federal Aviation Administration (FAA), DOT.

ACTION: Notice of proposed rulemaking (NPRM).

SUMMARY: This action proposes to amend VOR Federal airways V-3, V-157, and V-579; and to remove V-578 in support of the FAA's VOR Minimum Operational Network (MON) Program.

DATES: Comments must be received on or before May 8, 2023.

ADDRESSES: Send comments identified by FAA Docket No. FAA-2023-0599 and Airspace Docket No. 22-ASO-11 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11G, Airspace Designations and Reporting Points, and subsequent amendments can be viewed online at www.faa.gov/air_traffic/publications/. For further information, you can contact the Rules and Regulations Group, Federal Aviation Administration, 800 Independence Avenue SW, Washington, DC 20591; telephone: (202) 267-8783.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the VOR Federal airway route structure in the eastern United States to maintain the efficient flow of air traffic.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the office of the Eastern Service Center, Federal Aviation Administration, Room 210, 1701 Columbia Avenue, College Park, GA, 30337.

Incorporation by Reference

Domestic VOR Federal airways are published in paragraph 6010(a) of FAA Order JO 7400.11G, Airspace Designations and Reporting Points, which is incorporated by reference in 14 CFR 71.1 on an annual basis. This document proposes to amend the current version of that order, FAA Order JO 7400.11G, dated August 19, 2022 and effective September 15, 2022. These updates would be published in the next update to FAA Order JO 7400.11. That order is publicly available as listed in the ADDRESSES section of this document.

FAA Order JO 7400.11G lists Class A, B, C, D, and E airspace areas, air traffic service routes, and reporting points.

The Proposal

This action proposes to amend VOR Federal airways V-3, V-157, and V-579; and to remove V-578 in support of the FAA's VOR MON Program. The proposed changes facilitate the scheduled decommissioning of the following navigation aids: Alma, GA (AMG), VOR Tactical Air Navigational System (VORTAC), Cross City, FL (CTY), VORTAC, Gators, FL (GNV), VORTAC, and Vance, SC (VAN), VORTAC. The proposed changes are described as follows:

V-3: V-3 currently extends, in two parts: From Key West, FL, to Boston, MA; and From Presque Isle, ME, to Quebec, PQ, Canada. The FAA proposes to remove the route segment between the OWENS, SC, Fix and the Florence, SC (FLO), VORTAC. This segment is dependent on the Vance, SC (VAN), VORTAC which is scheduled to be decommissioned. As a result, the OWENS Fix would be redefined using the Allendale, SC (ALD), VOR 116°(T)/117°(M) radial in place of the current Vance 203° radial. In addition, NAV CANADA has cancelled the segment of V-3 that extends through Canadian airspace to Quebec. Consequently, the FAA proposes to replace the segment from Presque Isle to Quebec with a segment that extends from Presque Isle to a Fix on the U.S./Canadian border. The Fix would be defined by the intersection of Presque Isle 270°(T)/291°(M) and the Millinocket, ME 320°(T)/340°(M) radials. The words that exclude the airspace within Canada would be removed from the route description.

As amended, V-3 would consist of three parts: From Key West, FL, to the intersection of the Savannah, GA 028° and the Allendale, SC 116°(T)/117°(M) radials (i.e., the OWENS Fix); From Florence, SC, to Boston, MA; and From Presque Isle, ME, to the intersection of the Presque Isle 270°(T)/291°(M) and the Millinocket, ME 320°(T)/340°(M) radials.

V-157: Airway V-157 consists of two parts: From Key West, FL, to Richmond, VA; and From Robbinsville, NJ, to Albany, NY. The FAA proposes to amend V-157 by removing the route segment between Waycross, GA and Florence, SC. As amended, V-157 would consist of three parts: From Key West, FL to Waycross, GA; From Florence, SC to Richmond, VA; and From Robbinsville, NJ to Albany, NY.

V-578: V-578 extends from Pecan, GA to Savannah, GA. The route is dependent upon the Alma, GA (AMG), VORTAC which is scheduled to be decommissioned. The route also includes the Tift Myers, GA (IFM), VOR, which is not operational. Without those navigation facilities, V-158 is no longer viable so the FAA proposes to remove the entire route.

V-579: V-579 extends from Lee County, FL to Vienna, GA. The route is dependent upon the Cross City, FL (CTY), VORTAC and the Gators, FL (GNV), VORTAC which are being decommissioned. The route also includes the Tift Myers, GA (IFM), VOR which is no longer operational. The FAA proposes to remove the segments from St. Petersburg, FL to Vienna, GA. As amended, V-579 would extend from Lee County, FL to St. Petersburg, FL.

Regulatory Notices and Analyses

The FAA has determined that this proposed regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11G, Airspace Designations and Reporting Points, dated August 19, 2022, and effective September 15, 2022, is amended as follows:

Paragraph 6010(a) Domestic VOR Federal Airways.

* * * * *

V-3 [Amended]

From Key West, FL; INT Key West 083° and Dolphin, FL, 191° radials; Dolphin; Ft. Lauderdale, FL; Palm Beach, FL; Treasure, FL; Melbourne, FL; Ormond Beach, FL; Brunswick, GA; INT Brunswick 014° and Savannah, GA, 177° radials; Savannah; to INT Savannah 028° and Allendale, SC, 116° radials. From Florence, SC; Sandhills, NC; Raleigh-Durham, NC; INT Raleigh-Durham 016° and Flat Rock, VA, 214° radials; Flat Rock; Gordonsville, VA; INT Gordonsville 331° and Martinsburg, WV, 216° radials; Martinsburg; Westminster, MD; INT Westminster 048° and Modena, PA, 258° radials; Modena; Solberg, NJ; INT Solberg 044° and Carmel, NY, 243° radials; Carmel; Hartford, CT; INT Hartford 084° and Boston, MA, 224° radials; to Boston. From Presque Isle, ME; to INT Presque Isle 270°T/291°M and the Millinocket, ME 320°T/340° radials. The airspace within R-2916, R-2934, R-2935, is excluded.

* * * * *

V-157 [Amended]

From Key West, FL; INT Key West 038° and Dolphin, FL, 244° radials; Dolphin; INT Dolphin 331°and La Belle, FL, 113° radials; La Belle; Lakeland, FL; Ocala, FL; INT Ocala 346° and Taylor, FL,170° radials; Taylor, FL; to Waycross, GA. From Florence, SC; Fayetteville, NC; Kinston, NC; Tar River, NC; Lawrenceville, VA; to Richmond, VA; From Robbinsville, NJ; INT Robbinsville 044° and LaGuardia, NY, 213° radials; LaGuardia; INT LaGuardia 032° and Deer Park, NY, 326° radials; INT Deer Park 326° and Kingston, NY, 191° radials; Kingston, NY; to Albany, NY. The airspace within R-6602A, B, and C is excluded when active.

* * * * *

V-578 [Removed]

* * * * *

V-579 [Amended]

From Lee County, FL; INT Lee County 310° and Sarasota, FL, 156° radials; Sarasota; to St. Petersburg, FL.

* * * * *

Issued in Washington, DC, on March 9, 2023.
Brian Konie,
Acting Manager, Airspace Rules and Regulations.

[FR Doc. 2023-05566 Filed 3-22-23; 8:45 am]

BILLING CODE 4910-13-P